DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its forty-ninth meeting.

Name: National Advisory Committee on Rural Health and Human Services.

Dates and Times: March 20, 2005, 1:30 p.m.-4:30 p.m., March 21, 2005, 8:30 a.m.-4:30 p.m., March 22, 2005, 8 a.m.-10:30 a.m.

Place: Grand Hyatt, 1000 H Street, NW., Washington, DC 20001, Phone: 1-800-233-1234.

Status: The meeting will be open to the public.

Purpose: The National Advisory Committee on Rural Health and Human Services provides advice and recommendations to the Secretary with respect to the delivery, research, development and administration of health and human services in rural areas.

Agenda: Sunday afternoon, March 20, at 1:30 p.m., the Chairperson, the Honorable David Beasley, will open the meeting and welcome the Committee. The first session will open with a discussion of the Committee business and a review of the 2005 report to the Secretary. This will be followed by an update from the Committee Staff represented by the following: Ms. Jennifer Riggle, Office of Rural Health Policy; Mr. Dennis Dudley, Agency on Aging; and Ms. Ann Barbagallo, Administration on Children and Families. The final session of the day will consist of an in-depth review and adoption of the 2005 report to the Secretary. The Sunday meeting will close at 4:30 p.m.

Monday morning, March 21, at 8:30 a.m. the meeting will begin with the 2006 Report Planning, led by the Honorable David Beasley and Mr. Tom Morris, the Executive Secretary of the Committee. The Committee will hear presentations from Staff on each potential 2006 topic. The Committee will break for a joint lunch with the National Rural Health Association Policy Institute (lunch will be provided for the Committee only). After lunch the Committee will hear a panel discussion on rural health and human services emerging issues. The Monday session will conclude with a continued discussion of the 2006 Workplan. The Monday meeting will close at 4:30 p.m.

The final session will be convened Tuesday morning, March 22, at 8 a.m. The Committee will review the discussion of the 2006 Workplan. The meeting will conclude with a discussion of the June and September meetings. The meeting will be adjourned at 10:30 a.m.

FOR FURTHER INFORMATION CONTACT: Anyone requiring information regarding the Committee should contact Tom Morris, M.P.A., Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Deanna Durrett, Office of Rural Health Policy (ORHP), by telephone (301) 443-0835, or e-mail ddurrett@hrsa.gov. The Committee meeting agenda will be posted on ORHP's Web site at http://www.ruralhealth.hrsa.gov.

Dated: January 13, 2005.
Steven A. Pelovitz,
Associate Administrator for Administration and Financial Management.

[FR Doc. 05-1183 Filed 1-21-05; 8:45 am]

BILLING CODE 4165-15-P